DEPARTMENT OF COMMERCE

International Trade Administration

[A-533-810]

Stainless Steel Bar from India: Final Results of the Antidumping Duty Administrative Review, and Revocation of the Order, in Part

AGENCY: Import Administration, International Trade Administration, Department of Commerce.

SUMMARY: On March 4, 2011, the Department of Commerce (“Department”) published the preliminary results of the administrative review of the antidumping duty order on stainless steel bar from India. The review covers shipments of subject merchandise to the United States for the period February 1, 2009, through January 31, 2010, by Facor Steels Ltd./Ferro Alloys Corporation, Ltd. (“Facor”), Mukand Ltd. (“Mukand”), and Venus Wire Industries Pvt. Ltd. (“Venus Wire”).¹ Based on our analysis of the comments received, we have made changes to the preliminary results, which are discussed below. For the final dumping margins, see the “Final Results of the Review” section below. Finally, we are announcing our revocation of the order on stainless steel bar from India, in part, with respect to subject merchandise produced and/or exported by Venus to the United States.

¹ For the reasons explained in the Preliminary Results, we have determined that Venus Wire and its affiliates, Hindustan Inox, Precision Metals (“Hindustan”) and Sieves Manufacturers (India) Pvt. Ltd. (“Sieves”), should be treated as a single entity and collapsed for the purposes of this review. See Memorandum from Patricia Tran and Austin Redington to the File, “Whether to Collapse Venus Wire Industries Pvt., Ltd. and Hindustan Inox in the Preliminary Results” dated July 20, 2010; see also Memorandum from Austin Redington to the File, “Relationship of Venus Wire Industries Pvt. Ltd. and Precision Metals,” dated May 20, 2010; see also Memorandum from Austin Redington to the File, “Relationship of Wire Industries Pvt. Ltd. and Sieves Manufactures (India) Pvt. Ltd.,” dated May 20, 2010. The collapsed entity is referred to as “Venus.”

DATES: Effective Date: September 13, 2011.

FOR FURTHER INFORMATION CONTACT: Austin Redington, Scott Holland, or Yasmin Nair, AD/CVD Operations, Office 1, Import Administration, International Trade Administration, U.S. Department of Commerce, 14th Street and Constitution Avenue, NW., Washington, DC 20230; telephone (202) 482-1664, (202) 482-1279, or (202) 482-3813, respectively.

SUPPLEMENTARY INFORMATION:

Background

On March 4, 2011, the Department published Stainless Steel Bar From India: Preliminary Results of, and Partial Rescission of, the Antidumping Duty Administrative Review, and Intent Not To Revoke the Order, in Part, 76 FR 12044 (March 4, 2011) (“Preliminary Results”). After publishing the Preliminary Results, the Department conducted verification of the cost of production responses from Venus Wire and its affiliate, Sieves, from March 7, 2011, through March 18, 2011. The results of this verification were disclosed to the interested parties on April 29, 2011. See Memorandum from Angie Sepulveda and Heidi K. Schriefer to Neal M. Halper, “Verification of the Cost Response of Venus Wire Industries Pvt. Ltd. in the Antidumping Review of Stainless Steel Bar from India,” dated April 29, 2011; see also Memorandum from Angie Sepulveda and Heidi K. Schriefer to Neal M. Halper, “Verification of the Cost Response of Sieves Manufacturers (India) Private Limited in the Antidumping Review of Stainless Steel Bar from India,” dated April 29, 2011, which are on file in the Central Records Unit (“CRU”) in room 7046 in the main Department building.

We preliminarily determined to treat Venus Wire and its affiliate Hindustan as a single entity for this review. See Preliminary Results; see also Memorandum from Austin Redington to the File, “Whether to Collapse Venus Wire Industries Pvt., Ltd. and Hindustan Inox in the Preliminary Results,” dated July 20, 2010. We invited comment on this issue from the interested parties: None was received. We are continuing to treat Venus Wire and its affiliate Hindustan as a single entity for the final results of this review.

On April 14, 2011, the Department extended the time limit for the completion of the final results of this review by 60 days (to August 31, 2011), in accordance with section 751(a)(3)(A) of the Tariff Act of 1930, as amended (“the Act”), and 19 CFR 351.213(h)(2). See Stainless Steel Bar From India: Extension of Time Limit for the Final Results of the 2009-2010 Antidumping Duty Administrative Review, 76 FR 20950 (April 14, 2011).

We invited parties to comment on the Preliminary Results. On April 4, 2011, we received a letter from Venus detailing and correcting administrative errors in its questionnaire response and verification. On April 25, 2011, we received a response to Venus' April 4, 2011 letter from Petitioners.² On May 3, 2011, we received an additional letter from Venus, which clarified its comments of April 4, 2011.

² Carpenter Technology Corporation, Valbruna Slater Stainless, Inc., Electralloy Corporation, a Division of G.O. Carlson, Inc., Universal Stainless (collectively “Petitioners”).

On June 16, 2011, we received case briefs from Venus and Petitioners. On June 16, 2011, pursuant to a request from Mukand, we extended the deadline for submission of case briefs to June 20, 2011. See Memorandum from Seth Isenberg to the File, “2009/2010 Administrative Review of Stainless Steel Bar from India: Revised Briefing Schedule,” dated June 16, 2011. On June 20, 2011, we again extended the deadline, pursuant to a request from Mukand, Ltd. See Memorandum from Seth Isenberg to the File, “2009/2010 Administrative Review of Stainless Steel Bar from India: Revised Briefing Schedule,” dated June 20, 2011. On June 22, 2011, we received case briefs from Mukand and Facor. On June 24, 2011, we extended the deadline for submission of rebuttal briefs to June 29, 2011, pursuant to a request from Petitioners. See Memorandum from the Team to the File, “2009/2010 Administrative Review of Stainless Steel Bar from India: Revised Briefing Schedule,” dated June 24, 2011. We received rebuttal briefs on June 27, 2011, and June 29, 2011, from Venus and Petitioners, respectively. On July 13, 2011, we rejected Mukand's June 21, 2011 case brief because it contained new factual information. See Letter from the Department to Mukand, “June 22, 2011 Case Brief,” dated July 13, 2011. In response to the Department's July 13, 2011 letter, Mukand re-filed its case brief on July 13, 2011, having removed the new factual information from its June 22, 2011 case brief.

Scope of the Order

Imports covered by the order are shipments of stainless steel bar. Stainless steel bar means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut-to-length flat-rolled products (i.e., cut-to-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes, and sections.

The stainless steel bar subject to this review is currently classifiable under subheadings 7222.11, 7222.19, 7222.20, 7222.30 of the Harmonized Tariff Schedule of the United States (“HTSUS”). Although the HTSUS subheadings are provided for convenience and customs purposes, our written description of the scope of the order is dispositive.

Analysis of Comments Received

All issues raised in the case briefs are addressed in the “Issues and Decision Memorandum for the 2009-2010 Administrative Review of Stainless Steel Bar from India” (“Issues and Decision Memorandum”), which is dated concurrently with and hereby adopted by this notice. A list of the issues which parties raised and to which we responded in the Issues and Decision Memorandum is attached to this notice as an Appendix. The Issues and Decision Memorandum is a public document which is on file in the CRU, and is accessible on the web at http://www.ia.ita.doc.gov/frn. The paper copy and electronic version of the memorandum are identical in content.

Changes Since the Preliminary Results

Based on our analysis of the comments received, we made the following changes in calculating dumping margin for Venus: (1) We reversed our determination regarding Venus' eligibility for revocation from the order; (2) we corrected a clerical error identified by Sieves regarding an incorrect grade reported in its home market for two control numbers (“CONNUMs”); (3) we corrected a clerical error identified by Venus regarding an incorrect size reported for two U.S. market CONNUMs; (4) we corrected a clerical error identified by Venus regarding an incorrect credit expense that resulted from a misreported date of sale for one home market sale; (5) we made an adjustment to one of Venus' U.S. sales to reflect a reimbursement it received for international freight expenses; (6) we recalculated Venus' and Sieves' annealing related charges based on the quantity processed, by grade series, regardless of size; (7) we revised Venus' reported conversion costs to correct minor errors found in the calculation of the direct labor, selected variable overhead items, and depreciation amounts; (8) we revised Sieves' reported conversion costs to allocate direct labor and selected variable overhead items only to stainless steel bright bar and to correct the processing related charges; (9) we increased Sieves' reported direct material costs to account for inputs obtained from affiliates at less than market prices; (10) we revised Sieves' general and administrative expense rate to exclude from the numerator the portion of the director remuneration expense reported as a selling expense; (11) we increased Hindustan's reported cost of manufacture (“COM”) to include the unreconciled difference between the COM from its normal books and records and the reported COM; and (12) we changed the AFA rate applied to Mukand to the 21.02 percent rate calculated in the petition. See Issues and Decision Memorandum at Comments 1, 3, and 7. For further details on how the changes relating to Venus were applied in the calculation, see Memorandum from Austin Redington to the File, “Final Results Calculation Memorandum for Venus Wire Industries Pvt. Ltd.,” dated August 31, 2011; see also Memorandum from Angie Sepulveda and Heidi K. Schriefer to Neal M. Halper, “Cost of Production and Constructed Value Calculation Adjustments for the Final Results—Venus Wire Industries Pvt. Ltd.,” dated August 31, 2011.

Use of Adverse Facts Available

The Department found in the Preliminary Results that Mukand failed to cooperate to the best of its ability by withholding information requested in the Department's questionnaire and, thereby, impeding the proceeding. See Preliminary Results. Therefore, in accordance with sections 776(a) and (b) of the Act, and 19 CFR 351.308, the Department preliminarily selected 22.63 percent as the adverse facts available (“AFA”) dumping margin. For these final results, the Department continues to find that an AFA margin should be applied to Mukand; however, as stated above, the Department has changed the AFA margin applied to Mukand and is now applying the rate calculated in the petition. See Issues and Decision Memorandum at Comment 7 for further discussion.

Revocation

Under section 751(d)(1) of the Act, the Department “may revoke, in whole or in part” an antidumping duty order upon completion of a review. Although Congress has not specified the procedures that the Department must follow in revoking an order, the Department has developed a procedure for revocation that is set forth at 19 CFR 351.222. Under 19 CFR 351.222(b)(2), the Department may revoke an antidumping duty order in part if it concludes that (A) an exporter or producer has sold the merchandise at not less than normal value for a period of at least three consecutive years, (B) the exporter or producer has agreed in writing to its immediate reinstatement in the order if the Secretary concludes that the exporter or producer, subsequent to the revocation, sold the subject merchandise at less than normal value, and (C) the continued application of the antidumping duty order is no longer necessary to offset dumping.

A request for revocation of an order in part for a company previously found dumping must address three elements. The company requesting the revocation must do so in writing and submit the following statements with the request: (1) The company's certification that it sold the subject merchandise at not less than normal value during the current review period and that, in the future, it will not sell at less than normal value; (2) the company's certification that, during each of the consecutive years forming the basis of the request, it sold the subject merchandise to the United States in commercial quantities; (3) the company's agreement to reinstatement in the order if the Department concludes that, subsequent to revocation, the company has sold the subject merchandise at less than normal value. See 19 CFR 351.222(e)(1). For these final results, we find that Venus' revocation request dated February 24, 2010, meets all of the criteria under 19 CFR 351.222(e)(1).

With regard to the criteria of 19 CFR 351.222(b)(2), we have determined that application of the antidumping duty order to Venus is no longer warranted for the following reasons: (1) The company had zero or de minimis margins for a period of at least three consecutive years; (2) the company has agreed to immediate reinstatement of the order if we find that it has resumed making sales at less than fair value (“LTFV”); (3) the continued application of the order is not otherwise necessary to offset dumping.

Therefore, for the final results, we determine that Venus qualifies for revocation from the order on stainless steel bar from India pursuant to 19 CFR 351.222(b)(2)(i). We received comments concerning the revocation of the order on stainless steel bar from India produced and/or exported by Venus to the United States. For further discussion of this issue, see Issues and Decision Memorandum at Comment 1. See also Memorandum from Scott Holland to the File “Determination to Revoke the Antidumping Duty Order on Stainless Steel Bar from India for Venus Wire Industries Pvt., Ltd.; Precision Metals, Sieves Manufacturers (India) Pvt., Ltd., and Hindustan Inox, Ltd.,” dated August 31, 2011. In accordance with 19 CFR 351.222(b)(2)(ii), we are revoking the order on stainless steel bar from India produced and/or exported by Venus to the United States, effective February 1, 2010.

Cost of Production

As discussed in the Preliminary Results, we conducted an investigation to determine whether Venus and Facor made home market sales of the foreign like product during the POR at prices below their costs of production (“COP”) within the meaning of section 773(b) of the Act. See Preliminary Results. For these final results, we performed the cost test following the same methodology as discussed in the Preliminary Results.

We found 20 percent or more of each respondent's sales of a given product during the reporting period were made at prices less than the weighted-average COP for this period. Thus, we determined that these below-cost sales were made in “substantial quantities” within an extended period of time and at prices which did not permit the recovery of all costs within a reasonable period of time in the normal course of trade. See sections 773(b)(1) and (2) of the Act.

For purposes of these final results, we continue to find that Venus and Facor made below-cost sales not in the ordinary course of trade. Consequently, we disregarded these sales for each respondent and used the remaining sales (if any) as the basis for determining normal value, pursuant to section 773(b)(1) of the Act. Where there were no home market sales made in the ordinary course of trade, we based normal value on constructed value.

Final Results of the Review

We determine that the following weighted-average dumping margins exist for Venus, Mukand, and Facor for the period February 1, 2009, through January 31, 2010.

Exporter/manufacturer | Margin (percent)
Venus Wire Industries Pvt. Ltd./Precision Metal/Sieves Manufacturing (India) Pvt. Ltd./Hindustan Inox Ltd | 0.07
Mukand, Ltd | 21.02
Facor Steels Ltd./Ferro Alloys Corporation, Ltd | 9.86
De minimis

Assessment Rates

The Department shall determine, and U.S. Customs and Border Protection (“CBP”) shall assess, antidumping duties on all appropriate entries, in accordance with 19 CFR 351.212(b)(1). The Department intends to issue appropriate assessment instructions for the companies subject to this review to CBP 15 days after the date of publication of these final results.

Pursuant to 19 CFR 351.212(b)(1), for all sales made by the respondent for which it has reported the importer of record and the entered value of all the U.S. sales to that importer, we have calculated importer-specific assessment rates based on the ratio of the total amount of antidumping duties calculated for the examined sales to the total entered value of those sales. Where the respondent did not report the entered value for all U.S. sales to an importer, we have calculated importer-specific assessment rates for the merchandise in question by aggregating the dumping margins calculated for all U.S. sales to each importer and dividing this amount by the total quantity of those sales.

To determine whether the duty assessment rates were de minimis (i.e., less than 0.50 percent) in accordance with the requirement set forth in 19 CFR 351.106(c)(2), we calculated importer-specific ad valorem rates based on reported and estimated entered values (when no entered value was reported). Where the assessment rate is above de minimis, we will instruct CBP to assess duties on all entries of subject merchandise by that importer. Pursuant to 19 CFR 351.106(c)(2), we will instruct CBP to liquidate without regard to antidumping duties any entries for which the assessment rate is de minimis.

Cash Deposit Requirements

Because we are revoking the order with respect to Venus' exports of subject merchandise, we will order CBP to terminate the suspension of liquidation for exports of such merchandise entered, or withdrawn from warehouse, for consumption on or after February 1, 2010, and to refund all cash deposits collected.

The following deposit rates will be effective upon publication of the final results of this administrative review for all shipments of stainless steel bar from India entered, or withdrawn from warehouse, for consumption on or after the publication date, as provided by section 751(a)(2)(C) of the Act: (1) The cash deposit rates for the companies listed above will be the rates established in the final results of this review, except if the rate is less than 0.5 percent and, therefore, de minimis, the cash deposit will be zero; (2) for previously reviewed or investigated companies not listed above, the cash deposit rate will continue to be the company-specific rate published for the most recent final results in which that manufacturer or exporter participated; (3) if the exporter is not a firm covered in this review, a prior review, or the original LTFV investigation, but the manufacturer is, the cash deposit rate will be the rate established for the most recent final results for the manufacturer of the merchandise; and (4) if neither the exporter nor the manufacturer is a firm covered in this or any previous review conducted by the Department, the cash deposit rate will be 12.45 percent, the “all others” rate established in the LTFV investigation. See Notice of Final Determination of Sales at Less Than Fair Value: Stainless Steel Bar from India, 59 FR 66915 (December 28, 1994). These cash deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

This notice serves as the only reminder to parties subject to administrative protective order (“APO”) of their responsibility concerning the disposition of proprietary information disclosed under APO in accordance with 19 CFR 351.305(a)(3). Timely written notification of return/destruction of APO materials or conversion to judicial protective order is hereby requested. Failure to comply with the regulations and the terms of an APO is a sanctionable violation.

These final results of review are issued and published in accordance with sections 751(a)(1) and 777(i)(1) of the Act.

Dated: August 31, 2011.
Ronald K. Lorentzen,
Deputy Assistant Secretary for Import Administration.

Appendix—Issues in Decision Memorandum

Comment 1: Whether to Revoke the Order as it Applies to Venus

Comment 2: Whether to Compare U.S. Sales to Home Market Sales of Similar Merchandise

Comment 3: Whether to Accept Venus' Minor Corrections

Comment 4: Whether Venus' Air Freighted Sales are Outside the Ordinary Course of Trade

Comment 5: Whether to Grant a Level of Trade (“LOT”) Adjustment to Facor

Comment 6: Whether Application of Total Adverse Facts Available (“AFA”) is Warranted

Comment 7: Whether the AFA Rate is Corroborated

Comment 8: Whether to Use Zeroing Methodology in this Administrative Review

[FR Doc. 2011-23390 Filed 9-12-11; 8:45 am]

BILLING CODE 3510-DS-P